SECURITIES AND EXCHANGE COMMISSION

Issuer Delisting; Notice of Application To Withdraw From Listing and Registration; (Boise Cascade Corporation, Common Stock, $2.50 Par Value, and Associated Common Stock Purchase Rights) File No. 1-05057

May 23, 2000.

Boise Cascade Corporation (“Company”) has filed an application with the Securities and Exchange Commission (“Commission”), pursuant to Section 12(d) of the Securities Exchange Act of 1934 (“Act”) ¹ and Rule 12d2-2(d) thereunder,² to withdraw its Common Stock, $2.50 par value, and associated Common Stock Purchase Rights (referred to collectively herein as the “Securities”),³ from listing and registration on the Chicago Stock Exchange, Incorporated (“CHX”).

¹ 15 U.S.C. 78l(d).

² 17 CFR 240.12d2-2(d).

³ The Common Stock Purchase Rights are currently attached to, and trade together with, the Company's Common Stock.

The Company, whose Securities are additionally listed on the New York Stock Exchange (“NYSE”), is seeking to withdraw the Securities from listing and registration on the CHX at this time in order to save the costs associated with such listing and related compliance. The Company's Common Stock has been listed for trading on the CHX since 1968, but in a recent review of its business conduct the Company found that the majority (more than 95%) of its Common Stock is traded on the NYSE. The Company's board of directors has therefore determined that no significant business reasons exist for maintaining the Securities' listing and registration on the CHX.

The Company has stated that its application relates solely to the withdrawal of the Securities from listing and registration on the CHX and shall have no effect upon the Securities' continued listing and registration on the NYSE under Section 12(b) of the Act.⁴

⁴ 15 U.S.C. 78l(b).

The withdrawal of the Securities from listing and registration on the CHX was approved by the Company's board of directors at a meeting held on July 31, 1998, and a resolution so stating was forwarded to the CHX in accordance with its rules. The Company has included with its application a copy of a letter from the CHX confirming that the Company's request for withdrawal complies with the rules of the CHX governing an issuer's removal of securities from listing and registration on the CHX.

Any interested person may, on or before June 14, 2000, submit by letter to the Secretary of the Securities and Exchange Commission, 450 Fifth Street, NW, Washington, DC 20549-0609, facts bearing upon whether the application has been made in accordance with the rules of the CHX and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 00-13411 Filed 5-26-00; 8:45 am]

BILLING CODE 8010-01-M